DEPARTMENT OF TRANSPORTATION

Federal Railroad Administration

49 CFR Parts 216, 231, and 238

[Docket No. FRA-2021-0067, Notice No. 2]

RIN 2130-AC90

Passenger Equipment Safety Standards; Standards for High-Speed Trainsets; Extension of Comment Period

AGENCY: Federal Railroad Administration (FRA), Department of Transportation (DOT).

ACTION: Notice of proposed rulemaking (NPRM); extension of comment period.

SUMMARY: On April 3, 2023, FRA published an NPRM proposing to amend its Passenger Equipment Safety Standards to modernize Tier I and Tier III safety appliance requirements; update the pre-revenue compliance documentation and testing requirements; establish crashworthiness requirements for individual Tier I-compliant vehicles equipped with crash energy management; establish standards for Tier III inspection, testing, and maintenance and movement of defective equipment; incorporate general safety requirements from FRA's Railroad Locomotive Safety Standards for Tier III trainsets; and provide for periodic inspection of emergency lighting to ensure proper functioning. By this notice, FRA is extending the NPRM's comment period, which will close on June 2, 2023, by 60 days.

DATES: The comment period for the NPRM published April 3, 2023, at 88 FR 19730, is extended until August 1, 2023.

ADDRESSES:

Comments: Comments related to Docket No. FRA-2021-0067, Notice No. 1, may be submitted by going to https://www.regulations.gov and following the online instructions for submitting comments.

Instructions: All submissions must include the agency name, docket name, and docket number or Regulatory Identification Number (RIN) for this rulemaking (2130-AC90). Note that all comments received will be posted without change to https://www.regulations.gov, including any personal information provided. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Hunter, Executive Staff Director, Office of Railroad Systems and Technology, telephone: (202) 579-5508 or email: michael.hunter@dot.gov; or James Mecone, Attorney Adviser, Office of the Chief Counsel, telephone: (202) 380-5324 or email: james.mecone@dot.gov.

SUPPLEMENTARY INFORMATION: In a May 11, 2023, letter, the American Public Transportation Association (APTA) requested a 120-day extension of the NPRM's comment period.¹ APTA stated it needs additional time to thoroughly review the NPRM and review and consolidate comments on the NPRM from its members and affiliates.

¹ 88 FR 19730 (Apr. 3, 2023).

The comment period for this NPRM is scheduled to close on June 2, 2023. As FRA is granting an extension in response to APTA's request, the comment period is now extended to August 1, 2023, which is a total of 60 days. Although APTA requested a 120-day extension, FRA believes that a 60-day extension will provide sufficient time for APTA and other interested parties to review the NPRM.

Privacy Act

In accordance with 5 U.S.C. 553(c), DOT solicits comments from the public to better inform its rulemaking process. DOT posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20103, 20107, 20133, 20141, 20302-20303, 20306, 20701-20702, 21301-21302, 21304; 28 U.S.C. 2461, note; and 49 CFR 1.89.

Issued in Washington, DC.
Amitabha Bose,
Administrator.

[FR Doc. 2023-11188 Filed 5-24-23; 8:45 am]

BILLING CODE 4910-06-P